INSTITUTE OF AMERICAN INDIAN AND ALASKA NATIVE CULTURE AND ARTS DEVELOPMENT

Cessation of Trustee Terms

AGENCY: Institute of American Indian and Alaska Native Culture and Arts Development.

ACTION: Notice of cessation of trustee terms.

SUMMARY: The Chair of the Board of Trustees of the Institute of American Indian and Alaska Native Culture and Arts Development gives notice of the cessation of the terms of two Trustees on May 19, 2026.

ADDRESSES: Institute of American Indian Arts, 83 Avan Nu Po Road, Santa Fe, New Mexico 87508.

FOR FURTHER INFORMATION CONTACT: Dr. Shelly Lowe, President, 505-424-2301.

(Authority: Sec.6(a) Pub. L. 112-166 August 10, 2012.)

Dated: January 19, 2026.
Shelly Lowe,
President.

[FR Doc. 2026-01493 Filed 1-26-26; 8:45 am]

BILLING CODE 4312-W4-P